DEPARTMENT OF TRANSPORTATION

Federal Aviation Administration

Notice of Intent To Rule on Request To Release Airport Property at the Seattle Tacoma International Airport, Seattle WA

AGENCY: Federal Aviation Administration (FAA), DOT.

ACTION: Notice of request to release airport property.

SUMMARY: The FAA proposes to rule and invite public comment on the release of land at Seattle Tacoma International Airport under the provisions of Section 125 of the Wendell H. Ford Aviation Investment Reform Act for the 21st Century (AID 21), now 49 U.S.C. 47107(h)(2).

DATES: Comments must be received on or before November 27, 2006.

ADDRESSES: Comments on this application may be mailed or delivered to the FAA at the following address: Mr. J. Wade Bryant, Manager, Federal Aviation Administration, Northwest Mountain Region, Airports Division, Seattle Airports District Office, 1601 Lind Avenue, SW., Suite 250, Renton, Washington 98055-4056.

In addition, one copy of any comments submitted to the FAA must be mailed or delivered to The Mark Reis, Airport Director, at the following address: Mark Reis, Airport Director, P.O. Box 68727, Seattle, WA 98168.

FOR FURTHER INFORMATION CONTACT: Mr. J. Wade Bryant, Manager, Seattle Airports District Office, Federal Aviation Administration, Northwest Mountain Region, Seattle Airports District Office, 1601 Lind Avenue, SW., Suite 250, Renton, Washington 98057-3356.

The request to release property may be reviewed, by appointment, in person at this same location.

SUPPLEMENTARY INFORMATION: The FAA invites public comment on the request to release property at the Seattle Tacoma International Airport under the provisions of the AIR 21 (49 U.S.C. 47107(h)(2)).

On October 2, 2006, the FAA determined that the request to release property at Seattle Tacoma International Airport submitted by the airport meets the procedural requirements of the Federal Aviation Administration. The FAA may approve the request, in whole or in part, no later than November 27, 2006.

The following is a brief overview of the request:

Seattle Tacoma International Airport is proposing the release of approximately .01 acres (507 square feet) of airport property so the property can be sold to the City of Seatac for a road improvement that benefits the Airport. The revenue made from this sale will be used toward Airport Capital Improvement.

Any person may inspect, by appointment, the request in person at the FAA office listed above under FOR FURTHER INFORMATION CONTACT.

In addition, any person may, upon appointment and request, inspect the application, notice and other documents germane to the application in person at Seattle Tacoma International Airport.

Issued in Renton, Washington, on October 16, 2006.
J. Wade Bryant,
Manager, Seattle Airports District Office.

[FR Doc. 06-8892 Filed 10-25-06; 8:45 am]

BILLING CODE 4910-13-M